DEPARTMENT OF THE INTERIOR

Office of the Secretary

National Satellite Land Remote Sensing Data Archive (NSLRSDA) Advisory Committee; Notice of Reestablishment

This notice is published in accordance with section 9 (a) (2) of the Federal Advisory Committee Act (Public Law 92-463), 5 U.S.C. App. (1988). Following consultation with the General Services Administration, notice is hereby given that the Secretary of the Interior is reestablishing the National Satellite Land Remote Sensing Data Archive (NSLRSDA) Advisory Committee. NSLRSDA was established by Congress in the Land Remote Sensing Policy Act of 1992 (Public Law 102-555), 15 U.S.C. 5601.

The purpose of the Committee is to advise the U.S. Geological Survey (USGS), Earth Resources Observation Systems (EROS) Data Center (EDC) on guidelines or rules relating to NSLRSDA archival data deposit, maintenance, and preservation as well as access management policies and procedures. The Committee will be responsible for providing advice and consultation on a broad range of technical and policy topics in guiding development of NSLRSDA.

In order for the Secretary to be advised by a broad spectrum of remote sensing data users and producers, committee membership will be composed of 15 members, as follows: two from academia, with one being a laboratory researcher-data user and one a classroom educator; four from government, with one being a Federal data user, one a State data user, one a local data user, and one a science archivist; four from industry, with one being a data management technologist, one a licensed data provider, one a value-added or other data provider, and one an end user; five others, with one being a nonaffiliated individual, one representing a nongovernmental organization, one an international representative, and two at-large, from any data user or producer sector. Expertise in information science, natural science, social science, and policy/law must be represented within the sectors listed above.

The Committee will function solely as an advisory body, and in compliance with the provisions of the Federal Advisory Committee Act. The Charter will be filed under the Act, 15 days from the date of publication of this notice.

Further information regarding the NSLRSDA Advisory Committee may be obtained from the Director, USGS, Department of the Interior, 12201 Sunrise Valley Drive, Reston, Virginia 20192. Certification of reestablishment is published below.

Certification

I hereby certify that the restablishment of the National Satellite Land Remote Sensing Data Archive Advisory Committee is necessary and in the public interest in connection with the performance of duties by the Department of Interior mandated pursuant to the Land Remote Sensing Policy Act of 1992 (Public Law 102-555), 15 U.S.C. 5601.

Dated: November 16, 2000.
Bruce Babbitt,
Secretary of the Interior.

[FR Doc. 00-31288 Filed 12-7-00; 8:45 am]

BILLING CODE 4310-Y7-M